DEPARTMENT OF ENERGY

Federal Energy Regulatory Commission

Supplemental Notice of Technical Conference

| Docket Nos.
Participation of Distributed Energy Resource, Aggregations in Markets Operated by Regional Transmission Organizations and Independent System Operators | RM18-9-000.
Distributed Energy Resources-Technical Considerations for the Bulk Power System | AD18-10-000.

As announced in a Notice of Technical Conference issued on February 15, 2018, Federal Energy Regulatory Commission (Commission) staff will hold a technical conference on Tuesday, April 10, 2018 and Wednesday, April 11, 2018, to discuss the participation of distributed energy resource (DER) aggregations in Regional Transmission Organization (RTO) and Independent System Operator (ISO) markets and to more broadly discuss the potential effects of DERs on the bulk power system. On April 10, 2018, the conference will commence at 10:15 a.m. and end at 4:45 p.m. On April 11, 2018, the conference will commence at 9:00 a.m. and end at 5:00 p.m. The conference will be held at the Federal Energy Regulatory Commission, 888 First Street NE, Washington, DC 20426. Commissioners will lead the second panel of the technical conference. Commission staff will lead the other six panels, and Commissioners may attend.

The agenda for this technical conference is attached. As stated in the Notice of Technical Conference, Commission staff seeks to discuss two broad sets of issues related to DERs. First, the technical conference will gather additional information to help the Commission determine what action to take on the DER aggregation reforms proposed in its Notice of Proposed Rulemaking on Electric Storage Participation in Markets Operated by Regional Transmission Organizations and Independent System Operators (NOPR).¹ In the NOPR, the Commission proposed to require each RTO/ISO to define DER aggregators as a type of market participant that can participate in the RTO/ISO markets under the participation model that best accommodates the physical and operational characteristics of its DER aggregation.² As discussed in Order No. 841, the Commission is taking no further action in Docket No. RM16-23-000 regarding the proposed DER aggregation reforms.³ Instead, the Commission will continue to explore the proposed DER aggregation reforms under Docket No. RM18-9-000. All comments previously filed in response to the NOPR in Docket No. RM16-23-000 are incorporated by reference into Docket No. RM18-9-000, and any further comments regarding the proposed DER aggregation reforms, including discussion of those reforms during this technical conference, should be filed henceforth in Docket No. RM18-9-000.⁴ Second, the technical conference will explore issues related to the potential effects of DERs on the bulk power system and any comments related to these issues should be filed in Docket No. AD18-10-00. A schedule for submitting post-technical conference comments will be discussed at the technical conference.

¹ See Electric Storage Participation in Markets Operated by Regional Transmission Organizations and Independent System Operators, FERC Stats. & Regs. 32,718 (2016) (NOPR).

² Id. P 1.

³ See Electric Storage Participation in Markets Operated by Regional Transmission Organizations and Independent System Operators, Order No. 841, FERC Stats. & Regs. 31,398 (2018) (crossed-referenced at 162 FERC 61,127).

⁴ Further comments regarding the proposed DER aggregation reforms should no longer be filed in Docket No. RM16-23-000.

All interested persons may attend the conference, and registration is not required. However, in-person attendees are encouraged to register on-line by April 3, 2018 at: https://www.ferc.gov/whats-new/registration/04-10-18-form.asp. In-person attendees should allow time to pass through building security procedures before the start time of the technical conference.

The Commission will transcribe and webcast this conference. Transcripts will be available immediately for a fee from Ace Reporting (202-347-3700). A link to the webcast of this event will be available in the Commission Calendar of Events at www.ferc.gov. The Capitol Connection provides technical support for the webcasts and offers the option of listening to the conference via phone-bridge for a fee. For additional information, visit www.CapitolConnection.org or call (703) 993-3100.

While this conference is not for the purpose of discussing specific cases, it may address matters at issue in the following Commission proceedings that are pending:

• PJM Interconnection, L.L.C.: See Advanced Energy Economy, Docket No. EL17-75-001

Commission conferences are accessible under section 508 of the Rehabilitation Act of 1973. For accessibility accommodations please send an email to accessibility@ferc.gov or call toll free 1-866-208-3372 (voice) or 202-208-8659 (TTY), or send a fax to 202-208-2106 with the required accommodations.

For more information about this technical conference, please contact David Kathan at (202) 502-6404, david.kathan@ferc.gov, or Louise Nutter at (202) 502-8175, louise.nutter@ferc.gov. For information related to logistics, please contact Sarah McKinley at (202) 502-8368, sarah.mckinley@ferc.gov.

Dated: March 29, 2018.
Nathaniel J. Davis, Sr.,
Deputy Secretary.

[FR Doc. 2018-06896 Filed 4-3-18; 8:45 am]

BILLING CODE 6717-01-P